DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 10, 2000.

Interested persons are invited to submit written comments regarding the subject matter of the investigations to the Director, Division of Trade Adjustment Assistance, at the address shown below, not later than July 10, 2000.

The petitions filed in this case are available for inspection at the Office of the Director, Division of Trade Adjustment Assistance, Employment and Training Administration, U.S. Department of Labor, 200 Constitution Avenue, NW, Washington, DC 20210.

Dated: Signed at Washington, DC this 12th day of June, 2000.
Grant D. Beale,
Program Manager, Division of Trade Adjustment Assistance.

Appendix
[Petitions Instituted on 06/12/00]
TA-W | Subject firm (petitions) | Location | Date of petition | Product(s)
37,752 | Hamilton Sundstrand (Comp) | Denver, CO | 05/30/00 | Fuel Pump Gears.
37,753 | Nova Yarns (Wrks) | Eden, NC | 05/25/00 | Single and 2 Ply Yarn.
37,754 | Rexworks, Inc. (USWA) | Milwaukee, WI | 05/26/00 | Front & Rear Frames, Chute, Hoppers.
37,755 | Schlegel Construction (Comp) | Kalispell, MT | 05/22/00 | Transportation of Wood By-Products.
37,756 | NRV Manufacturing Co (UNITE) | Carrollton, AL | 05/27/00 | Ladies' Jackets.
37,757 | Eaton Corp. (IAMAW) | Milwaukee, WI | 05/24/00 | Rail Road Resistors.
37,758 | Federal Mogul Corp (Comp) | Milan, MI | 05/23/00 | Automotive Seals.
37,759 | Interstate Dyeing (UNITE) | Passaic, NJ | 05/19/00 | Dyeing and Finishing Fabrics.
37,760 | Marijon Dyeing & Finish (UNITE) | East Rutherford, NJ | 05/18/00 | Dyeing and Finishing Fabrics.
37,761 | American Industrial (UE) | Meadville, PA | 05/28/00 | Steel Shipping Containers.
37,762 | Hearst Entertainment (Wrks) | Los Angeles, CA | 05/24/00 | Movies for Television.
37,763 | Destination Films (Wrks) | Santa Monica, CA | 05/24/00 | Major Motion Pictures.
37,764 | Masco Tech Forming Tech. (SMWI) | Ypsilanti, MI | 05/25/00 | Bolts and Screws.
37,765 | Cuba Specialty Mfg Co. (Comp) | Fillmore, NY | 05/26/00 | Minnow Traps, Crab Nets.
37,766 | Condor DC Power (Comp) | McAllen, TX | 05/25/00 | Switching Power Supplies.
37,767 | Ingersoll-Rand Co. (Comp) | Roanoke, VA | 05/26/00 | Crawler Rock Drills.
37,768 | Big B Valve Repair (Wrks) | Laurel, MS | 05/22/00 | Well Head Equipment and Accessories.
37,769 | Rosebud Mining Co, LLC (Comp) | Winnemucca, NV | 05/25/00 | Gold and Silver Ore.
37,770 | H.H. Rosinsky and Co (Wrks) | Philadelphia, PA | 05/30/00 | Ladies' Clothing.
37,771 | Dallco Industries, Inc (Comp) | York, PA | 05/31/00 | Ladies' and Girls' Clothing.
37,772 | Goodyear Tire and Rubber (USWA) | Akron, OH | 06/05/00 | Bias Race Tires.
37,773 | Alfa Laval Separation (IUE) | Warminster, PA | 06/01/00 | Centrifuges.
37,774 | Caporale Engraving, Inc (UNITE) | Hackensack, NJ | 05/25/00 | Engraving and Screens for Textiles.
37,775 | Ceng, Inc. (Comp) | Dexter, GA | 05/30/00 | Ladies', Mens' & Boys' Slacks & Uniforms.
37,776 | American Case Co (Comp) | Ann Arbor, MI | 05/30/00 | Musical Instrument Cases.
37,777 | Pearl Brewing Co (Wrks) | San Antonio, TX | 06/01/00 | Beer.
37,778 | Shepherd Operating, Inc (Comp) | Midland, TX | 06/02/00 | Oilwell Maintenance.
37,779 | Alco Controls (Comp) | Wytheville, VA | 05/26/00 | Reversing Valves for A/C.
37,780 | Memphis Chair (Wrks) | Gainesboro, TN | 06/01/00 | Chairs.
37,781 | Raleigh Co. (The) (Comp) | Raleigh, MS | 05/22/00 | Men's & Ladies' Jeans and Shorts.
37,782 | Emag Solutions LLC (Wrks) | Graham, TX | 05/30/00 | Magnetic Tape and Cartridges.
37,783 | UFE, Inc (UNITE) | El Paso, TX | 05/26/00 | Gears for Copiers, Fax Machines.
37,784 | Thermos Co (The) (Comp) | Batesville, MS | 06/01/00 | Foam Insulated Ice Chests.
37,785 | J-F Sportswear (UNITE) | Scranton, PA | 05/31/00 | Men's Sport and Suit Coats.
37,786 | Andover Togs (Wrks) | Pisgah, AL | 06/02/00 | Childrens Clothing.
37,787 | Shorewood Packaging Corp (Wrks) | Andalusia, AL | 06/02/00 | Paperboard Packaging.
37,788 | Aztec Finishing, Inc (Wrks) | Commerce, CA | 06/01/00 | Finishing Garments.

[FR Doc. 00-16494 Filed 6-28-00; 8:45 am]

BILLING CODE 4510-30-M